DEPARTMENT OF JUSTICE

Notice of Lodging of Consent Decree Under the Comprehensive Environmental Response, Compensation, and Liability Act

Notice is hereby given that on December 30, 2005, a proposed Consent Decree in the lead case Lyondell Chemical Co., et al. v. Albemarle Corp. et al., Civil Action No. 01CV890, consolidated with United States v. EPEC Polymers, Inc., 02CV003, and El Paso Tennessee Pipeline Co., et al. v. Chevron USA, Inc., et al., 03CV0225, was lodged with the United States District Court for the Eastern District of Texas.

This settlement relates to the Petro-Chemical Systems, Inc. Superfunded Site located in Liberty County, Texas (“the Site”). On December 6, 2001, ARCO and Lyondell Chemical Company (successor to ACC) (hereinafter “ARCO/Lyondell”) sued a number of parties, including the Settling Defendants (Celanese, Ltd. and CNA Holdings f/k/a Hoechst Celanese Corporation; Cook Composites and Polymers Co.; E.R. Carpenter, L.P., Successor in Interest to Carpenter Chemical Company; Hercules Incorporated; Texaco, Inc., as predecessor to Huntsman Petrochemical Corporation; NL Industries, f/k/a National Lead Company; Rexene Corporation, n/k/a Huntsman Polymers Corporation; and Vacuum Tanks, Inc.) to this Consent Decree, for cost recovery and contribution under CERCLA Sections 107 and 113, 42 U.S.C. 9607 and 9613, on the grounds that these parties were liable under CERCLA for the remediation of the Site. On January 3, 2002, the United States filed a complaint against EPEC Polymers, Inc. pursuant to CERCLA Section 107, 42 U.S.C. 9607, seeking, inter alia: (1) Reimbursement of response costs and (2) a declaratory judgment of liability for any future response costs incurred by the United States at the Site. EPEC Polymers, Inc., as well as other El Paso Corporation entities (together hereinafter “El Paso”) were also named in the ARCO/Lyondell matter and ultimately brought contribution claims against various parties including the Settling Defendants to this Consent Decree.

Under the proposed Consent Decree, the United States provides covenants not to sue settling defendants under CERCLA Sections 106 and 107, 42 U.S.C. 9606 and 9607, in connection with the site. The proposed Consent Decree resolves the contribution claims brought by ARCO/Lyondell and El Paso against Settling Defendants and Settling Defendants shall pay the United States $37,000 for response costs incurred by the Environment Protection Agency at the Site and $369,000 to the contribution plaintiffs.

The Department of Justice will receive for a period of third (30) days from the date of this publication comments relating to the Consent Decree. comments should be addressed to the Assistant Attorney General, Environment and Natural Resources Division, P.O. Box 7611, U.S. Department of Justice, Washington, DC 20044-7611, and should refer to United States v. EPEC Polymers, Inc., D.J. Ref. 90-11-3-709/1.

The Consent Decree may be examined at the Office of the United States Attorney, Eastern District of Texas, 350 Magnolia Avenue, Suite 350, Beaumont, Texas 77657, and at U.S. EPA Region 6, 1445 Ross Avenue, Dallas, Texas 75202. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, from the Consent Decree Library, please enclose a check in the amount of $8.75 (25 cents per page reproduction cost) payable to the U.S. Treasury.

Thomas A. Mariana, Jr.,
Assistant Chief, Environmental, Enforcement Section, Environment and Natural Resources Division.

[FR Doc. 06-509 Filed 1-19-06; 8:45 am]

BILLING CODE 4410-15-M